DEPARTMENT OF COMMERCE

International Trade Administration

[A-549-822]

Certain Frozen Warmwater Shrimp From Thailand; Amended Final Results of Antidumping Duty Administrative Review

AGENCY: Enforcement and Compliance, formerly Import Administration, International Trade Administration, Department of Commerce.

DATES: Effective Date: January 27, 2014.

FOR FURTHER INFORMATION CONTACT: Blaine Wiltse, AD/CVD Operations, Office II, Enforcement and Compliance, International Trade Administration, U.S. Department of Commerce, 14th Street and Constitution Avenue NW., Washington, DC 20230; telephone (202) 482-6345.

SUPPLEMENTARY INFORMATION:

Amended Final Results

On July 10, 2012, the Department of Commerce (the Department) published the final results of its administrative review of the antidumping duty order on certain frozen warmwater shrimp from Thailand.¹ The period of review (POR) is February 1, 2010, through January 31, 2011.

¹ See Certain Frozen Warmwater Shrimp From Thailand: Final Results of Antidumping Duty Administrative Review and Final No Shipment Determination, 77 FR 40574 (July 10, 2012) (Final Results).

Following the publication of the Final Results, Marine Gold Products Limited (Marine Gold); Pakfood Public Company Ltd.; Thai Royal Frozen Food Company Limited; Thai Union Frozen Products Public Co., Ltd.; and Thai Union Seafood Company Ltd. (collectively, “Thai Respondents”) challenged the Department's Final Results in the United States Court of International Trade (CIT). The Thai Respondents challenged the Department's decision not to calculate an individual antidumping duty margin for Marine Gold as a voluntary respondent, and the Department's decision not to offset positive antidumping duty margins with negative ones. On August 2, 2013, the CIT remanded the Final Results for further consideration of Marine Gold's request for individual examination as a voluntary respondent, while noting that the Thai Respondents dropped their challenge to the Department's decision not to offset positive antidumping duty margins with negative ones.²

² See Ad Hoc Shrimp Trade Action Comm. v. United States, 925 F. Supp. 2d 1367, 1368 n.4, 1369-1372 (CIT 2013).

On January 9, 2014, the United States and Marine Gold entered into an agreement to settle this dispute and requested a stipulated judgment. On January 9, 2014, the CIT issued an order of judgment by stipulation. Consistent with the January 9, 2014 settlement agreement and the judgment by stipulation, we will instruct U.S. Customs and Border Protection to liquidate all unliquidated entries of certain frozen warmwater shrimp from Thailand produced and/or exported by Marine Gold, and entered, or withdrawn from warehouse, for consumption in the United States during the POR at the importer-specific per-unit assessment rates determined by setting Marine Gold's weighted-average dumping margin at 0.41 percent (de minimis). However, we are not establishing a revised cash deposit rate for Marine Gold because the antidumping duty order on certain frozen warmwater shrimp from Thailand was revoked with respect to merchandise produced and/or exported by Marine Gold on July 16, 2013, with an effective date of February 1, 2012.³

³ See Certain Frozen Warmwater Shrimp From Thailand: Final Results of Antidumping Duty Administrative Review, Partial Rescission of Review, and Revocation of Order (in Part); 2011-2012, 78 FR 42497, 42499 (July 16, 2013).

We are issuing this determination and publishing these amended final results and notice in accordance with section 516A(e) of the Act.

Dated: Januaru 16, 2014.
Christian Marsh,
Deputy Assistant Secretary for Antidumping and Countervailing Duty Operations.

[FR Doc. 2014-01501 Filed 1-24-14; 8:45 am]

BILLING CODE 3510-DS-P